DEPARTMENT OF DEFENSE

Office of the Secretary

[Docket ID DoD-2012-OS-0011]

Submission for OMB Review; Comment Request

ACTION: Notice.

SUMMARY: The Department of Defense has submitted to OMB for clearance the following proposal for collection of information under the provisions of the Paperwork Reduction Act (44 U.S.C. Chapter 35).

DATES: Consideration will be given to all comments received by March 16, 2012.

Title Associated Form and OMB Number: Certification of Qualified Products; DD Form 1718; OMB Control Number 0704-TBD.

Type of Request: New.

Number of Respondents: 1276.

Responses Per Respondent: 1.

Annual Responses: 1276.

Average Burden Per Response: .30 minutes.

Annual Burden Hours: 638.

Needs and Uses: This collection of information will be used by the preparing activities as well as procuring activities which are responsible for maintaining and purchasing from Qualified Products Lists (QPLs) and Qualified Manufacturers Lists (QMLs).

Affected Public: Business and other for-profit.

Frequency: Biennially.

Respondents Obligation: Required to obtain or retain benefits.

OMB Desk Officer: Ms. Jasmeet Seehra.

Written comments and recommendations on the proposed information collection should be sent to Ms. Jasmeet Seehra at the Office of Management and Budget, Desk Officer for DOD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DoD Clearance Officer: Ms. Patricia Toppings.

Written request for copies of the information collection proposal should be sent to Ms. Patricia Toppings, 2nd Floor, East Tower, Suite 02G09, Mark Center Drive, Alexandria, VA 22350-3100.

Dated: January 24, 2012.
Patricia L. Toppings,
OSD Federal Register Liaison Officer, Department of Defense.

[FR Doc. 2012-3497 Filed 2-14-12; 8:45 am]

BILLING CODE 5001-06-P